DEPARTMENT OF THE INTERIOR

National Park Service

[NPS-WASO-NAGPRA-NPS0035574; PPWOCRADN0-PCU00RP14.R50000]

Notice of Inventory Completion: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs (BIA) has completed an inventory of human remains and associated funerary objects and has determined that there is a cultural affiliation between the human remains and associated funerary objects and Indian Tribes or Native Hawaiian organizations in this notice. The human remains and associated funerary objects were removed from Coconino and Apache Counties, AZ.

DATES: Repatriation of the human remains and associated funerary objects in this notice may occur on or after May 4, 2023.

ADDRESSES: Ms. Tamara Billie, U.S. Department of the Interior, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the determinations in this notice, including the results of consultation, can be found in the inventory or related records held by the BIA.

Description

Human remains representing, at minimum, one individual were removed from either Coconino County, AZ. At an unknown date, human remains were removed from a burial at Site A5162, near Oraibi Wash. In 1962, the El Paso Natural Gas Survey transferred the human remains and associated funerary objects to the Museum of Northern Arizona. Burial 1 contained the human remains of an adult. The two associated funerary objects are one metal saddle stirrup and one necklace comprised of shell and turquoise beads and pendants. Based on the associated funerary objects, the human remains are historic (post-1900) Navajo.

Human remains representing, at minimum, one individual were removed from Coconino County, AZ. In 1958, during an authorized project, the Museum of Northern Arizona collected these remains from a burial eroding out of a slope at Site NA7121. This site is located along the Little Colorado River, 6.5 miles upstream from the Cameron bridge. Burial 1 contained the human remains of a juvenile <6 years old who had been buried in a wooden coffin. The seven associated funerary objects are one enameled pan, one rusted cup, one metal toy cup, one metal saucer, one piece of burned wood, one piece of black cloth, and one piece of animal fur. Based on the burial location and the associated funerary objects, the human remains are historic Navajo.

Human remains representing, at minimum, one individual were removed from Apache County, AZ. Sometime during the 1920s, a private individual collected these remains from a burial at Site NA9102. This site located within a small cave on the south side of Canyon de Chelly, across from Sliding Rock Ruin. In 1960, the human remains and an associated funerary object were transferred to the Museum of Northern Arizona. Burial 1 contained the human remains of an adult male 40+ years old who had been buried flexed, in a cist. The 10 associated funerary objects are 10 fragments of a cloth cloak stitched together from different fabrics. Based on the associated patchwork cloak, the human remains belong to the Navajo Classic period (ca. 1750-1804).

Human remains representing, at minimum, one individual were removed from Apache County, AZ. In 1968, during an authorized excavation for a powerline, the Museum of Northern Arizona collected these remains from a burial at Site NA10091. This site is located on the north side of Interstate 40 near Houck, on a ridge east of Black Creek. Site NA10091 is an 1880s Navajo forked-stick hogan, and the burial was located in a rock crevice on the south side of the hogan. Burial 1 contained the human remains of a juvenile 9-11 years old who had been buried extended on the left side, with the head oriented to the north. The 24 associated funerary objects are one necklace of trade beads, one leather item, one copper bracelet, and 21 faunal bones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, and archeological.

Determinations

Pursuant to NAGPRA and its implementing regulations, and after consultation with the appropriate Indian Tribes and Native Hawaiian organizations, the Bureau of Indian Affairs has determined that:

• The human remains described in this notice represent the physical remains of four individuals of Native American ancestry.

• The 43 objects described in this notice are reasonably believed to have been placed with or near individual human remains at the time of death or later as part of the death rite or ceremony.

• There is a relationship of shared group identity that can be reasonably traced between the human remains and associated funerary objects described in this notice and the Navajo Nation, Arizona, New Mexico, & Utah.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 4, 2023. If competing requests for repatriation are received, the BIA must determine the most appropriate requestor prior to repatriation. Requests for joint repatriation of the human remains and associated funerary objects are considered a single request and not competing requests. The BIA is responsible for sending a copy of this notice to the Indian Tribe identified in this notice.

Authority: Native American Graves Protection and Repatriation Act, 25 U.S.C. 3003, and the implementing regulations, 43 CFR 10.9, § 10.10, and § 10.14.

Dated: March 22, 2023.
Melanie O'Brien,
Manager, National NAGPRA Program.

[FR Doc. 2023-06916 Filed 4-3-23; 8:45 am]

BILLING CODE 4312-52-P